DEPARTMENT OF THE INTERIOR

Fish and Wildlife Service

[Docket No. FWS-HQ-ES-2023-0148; FF09E42000-FXES111609BFEDR-234]

John H. Chafee Coastal Barrier Resources System; Florida, Georgia, Louisiana, Maine, and New York; Draft 5-Year Review Boundaries

AGENCY: Fish and Wildlife Service, Interior.

ACTION: Notice of availability; request for comments.

SUMMARY: The Coastal Barrier Resources Act (CBRA) requires the Secretary of the Interior to review the maps of the John H. Chafee Coastal Barrier Resources System (CBRS) at least once every 5 years and make any minor and technical modifications to the boundaries of the CBRS as are necessary to reflect changes that have occurred in the size or location of any unit as a result of natural forces. We, the U.S. Fish and Wildlife Service (Service), have conducted this review for CBRS units in Florida, Georgia, Louisiana, Maine, and the Great Lakes region of New York. With this notice, we announce the findings of our review and invite comments on the draft revised boundaries from Federal, State, and local officials.

DATES: To ensure consideration, we must receive your written comments by December 4, 2023.

ADDRESSES:

Accessing Files: The draft revised boundaries may be viewed in a web mapping application accessed from the Service's website at https://www.fws.gov/project/cbrs-5-year-review. For more information, see Request for Comments under SUPPLEMENTARY INFORMATION.

Submitting Comments: You may submit written comments by one of the following methods:

• Internet: Go to: https://www.regulations.gov. Search for and submit comments on Docket No. FWS-HQ-ES-2023-0148.

• U.S. mail or hand-delivery: Public Comments Processing, Attn: Docket No. FWS-HQ-ES-2023-0148, U.S. Fish and Wildlife Service, 5275 Leesburg Pike, MS: PRB/3W, Falls Church, VA 22041-3808.

We request that you send comments by only one of the methods described above. We will post all information received on https://www.regulations.gov. If you provide personal identifying information in your comment, you may request at the top of your document that we withhold this information from public review. However, we cannot guarantee that we will be able to do so.

FOR FURTHER INFORMATION CONTACT: Katie Niemi, Coastal Barriers Coordinator, via telephone at 703-358-2071 or email at CBRA@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Coastal Barrier Resources Act (CBRA; 16 U.S.C. 3501 et seq.) requires the Secretary of the Interior (Secretary) to review the maps of the CBRS at least once every 5 years and make, in consultation with the appropriate Federal, State, and local officials, such minor and technical modifications to the boundaries of the CBRS as are necessary solely to reflect changes that have occurred in the size or location of any unit as a result of natural forces (16 U.S.C. 3503(c)).

The Service's review included:

• Six of the 137 total units located in Florida

• All 13 units located in Georgia

• Fifteen of the 21 total units located in Louisiana

• All 34 units located in Maine

• All 21 units located in the Great Lakes region of New York

The remaining Louisiana and New York (Long Island) units were not included in this review because they are part of separate comprehensive mapping projects (the related maps are awaiting adoption by Congress through legislation). The remaining Florida units were not included in this review but are planned for review in the future.

Of the 89 total units reviewed, the Service revised 13 units that changed in size or location as a result of natural forces since they were last mapped. The Service's review of these areas also found two CBRS units that require modifications to correct administrative errors made in the past on maps for Lee County, Florida.

Background and Methodology

Background information on the 5-year review effort and the methodology used to produce the revised boundaries can be found in a notice the Service published in the Federal Register on November 22, 2022 (87 FR 71352).

Prior to the Service's “digital conversion” effort for the CBRS maps (carried out during the period 2013-2016), the official CBRS maps had significant limitations due to their age, scale, and the now antiquated techniques used to create them. On August 29, 2013 (78 FR 53467), the Service published a notice in the Federal Register describing the limitations of those original maps, along with the methodology that was used to transcribe the boundaries from those maps to new base map imagery for the purposes of the 5-year review. In that notice, the Service also described limited circumstances under which CBRS boundaries may be modified to correct administrative errors made in the past, either in (a) the transcription of the boundaries from maps that were reviewed and approved by Congress to the official CBRS maps on file with the Service or (b) the inclusion of unqualifying areas to the CBRS through a map modification to account for natural changes under 16 U.S.C. 3503(c). We found two administrative errors in Units P19 and P19P that were introduced through the digital conversion and 5-year review effort in Florida in 2016. Minor corrections to these two units are described below.

Proposed Modifications to the CBRS

In accordance with CBRA's requirement to update the CBRS maps at least once every 5 years to account for natural changes, the Service has conducted a review of certain unit boundaries in Florida, Georgia, Louisiana, Maine, and the Great Lakes region of New York.

The Service made modifications due to natural changes in the size or location of a total of 13 CBRS units (of the 89 units reviewed). In addition, two units in Florida were modified to correct administrative errors made in the past on maps for Lee County, Florida. Below is a summary of those changes and the results of our review.

Florida

The Service's review found that five of the six CBRS units in Florida that are included in this review (Units FL-70, FL-70P, P19, P19P, P20, and P20P) require changes due to natural forces. In addition, two units in Florida, P19 and P19P, were modified to correct administrative errors. The imagery that was used on the currently effective maps is dated 2013. The imagery that was used for this review, and will be used for the revised maps, is dated 2022. Other CBRS units in Florida were not assessed as part of this review.

For Unit P19, the administrative errors affect three privately owned structures that were inadvertently added to the unit when the Service modified the boundary in a prior 5-year review. Additionally, one adjustment was needed to correct an error in the transcription of a portion of the boundary of Unit P19P along the excluded area at the northern end of North Captiva Island affecting one structure. These errors are corrected as described below under these two units.

Otherwise Protected Area (OPA) Unit P19P is made up of 15 discrete segments on North Captiva Island that are interspersed with System Unit P19. We are only modifying the northernmost segment of Unit P19P to reflect changes from natural forces. Although erosion has been occurring along the other 14 segments, we found that modifications beyond the scope of this project and our 5-year review authority are needed to first address significant misalignments in the locations of the OPA boundaries and the Cayo Costa State Park parcels they were intended to follow. These alignment errors were already present on the map adopted by Congress in 2000 via Public Law 106-360 and can be attributed to imprecise information regarding the location of the parcel boundaries at the time the CBRS map was produced. However, because these other errors are not of the administrative nature described in the Background and Methodology section above, they cannot be corrected administratively by the Service. Rather, such changes must be made through the comprehensive remapping process, which is described in more detail in a notice the Service published in the Federal Register on January 4, 2021 (86 FR 118).

FL-70P: GASPARILLA ISLAND. Unit FL-70P has two discrete segments, but modifications to account for natural changes were only necessary in the western segment. The western boundary of the excluded area of this segment has been modified to account for natural changes in the shoreline between the Boca Grande Rear Range Lighthouse and Sea Grape Beach.

P19: NORTH CAPTIVA ISLAND. The boundary along the western side of North Captiva Island that is coincident with the northernmost segment of Unit P19P has been modified to account for natural changes in the shoreline along the Gulf of Mexico. The excluded area boundary at the northern tip of North Captiva Island has been modified to account for natural changes in the shoreline along the Gulf of Mexico and Captiva Pass.

In addition, two segments of the boundary along the excluded area have been modified to correct an administrative error made during the previous 5-year review for this unit that affected three existing structures. That boundary was modified in 2016 to account for natural changes in the shoreline. However, that boundary modification was not included in the description of the 5-year review changes included in the Federal Register notices associated with this unit dated November 17, 2015 (80 FR 71826) and March 14, 2016 (81 FR 13407). The 2016 boundary change inadvertently resulted in adding to the unit three existing structures along the beach in the North Captiva Dunes subdivision. The boundary has been modified so that the structures will no longer be located within the unit.

P19P: NORTH CAPTIVA ISLAND. Unit P19P has 15 discrete segments that are all coincident with Unit P19. In the northernmost segment of Unit P19P, the western boundary coincident with Unit P19 has been modified to account for natural changes in the shoreline along the Gulf of Mexico.

Additionally, an adjustment has been made to correct an administrative error in the transcription of the boundary from the CBRS map dated October 27, 2000, to the official map dated January 11, 2016, for this unit. We found that when we digitized the southern boundary of the excluded area on North Captiva Island for the purposes of the 5-year review in 2015-2016, we did not properly follow the boundary transcription methodology described in the notice published in the Federal Register (August 29, 2013; 78 FR 53467).

This transcription error resulted in small portions of six privately owned parcels, including one existing structure, being incorrectly depicted as within the unit in 2016. The southern boundary of the excluded area (part of the northern boundary of Unit P19P) is adjusted to correct this error and maintain the relationship between the OPA boundary, and the boundary of Cayo Costa State Park as established by Congress via Public Law 106-360 in 2000 and clearly indicated by legislative history and our background records on Unit P19P.

P20: CAYO COSTA. The coincident boundary between Units P20 and P20P at the northern tip of Cayo Costa has been modified to account for natural changes in the shoreline along Boca Grande Pass.

P20P: CAYO COSTA. Unit P20P has 13 discrete segments, but modifications to account for natural changes were only necessary in the northernmost segment. The coincident boundary between Units P20 and P20P at the northern tip of Cayo Costa has been modified to account for natural changes in the shoreline along Boca Grande Pass.

Georgia

The Service's review found that 4 of the 13 CBRS units in Georgia require changes due to natural forces. The imagery that was used on the currently effective map is dated 2013. The imagery that was used for this review, and will be used for the revised map, is dated 2021.

GA-05P: ALTAMAHA/WOLF ISLANDS: The coincident boundary between Units GA-05P and N03 has been modified to account for accretion at the northern tip of Little St. Simons Island.

N03: LITTLE ST. SIMONS ISLAND: The coincident boundary between Units GA-05P and N03 has been modified to account for accretion at the northern tip of Little St. Simons Island.

N06: CUMBERLAND ISLAND: Unit N06 has five discrete segments, but modifications to account for natural changes were only necessary in the southernmost segment. The coincident boundary between Units N06 and N06P along Beach Creek near its confluence with Cumberland Sound has been modified to account for natural changes in the shoreline.

N06P: CUMBERLAND ISLAND: Unit N06P has six discrete segments, but modifications to account for natural changes were only necessary in the southernmost segment. The coincident boundary between Units N06 and N06P along Beach Creek near its confluence with Cumberland Sound has been modified to account for natural changes in the shoreline.

Louisiana

The Service's review found that 3 of the 15 CBRS units in Louisiana that are included in this review (Units LA-03P, LA-04P, LA-05P, LA-07, LA-08P, LA-09, LA-10, S01, S01A, S02, S03, S08, S09, S10, and S11) require changes due to natural forces. The imagery that was used on the currently effective maps is dated 2013. The imagery that was used for this review, and will be used for the revised maps, is dated 2021.

The remaining six Louisiana units were not assessed as part of this review because they are part of a separate comprehensive mapping project (the related maps are awaiting adoption by Congress through legislation).

LA-05P: MARSH ISLAND/RAINEY. The boundary of the unit has been modified to account for wetland erosion along Vermilion Bay and West Cote Blanche Bay. Due to the significant rate of erosion in this area, some of the boundary has been generalized (i.e., simplified so that the map is clear, and the boundary is not overly detailed).

LA-10: CALCASIEU PASS. A portion of the northern boundary of the unit has been modified to account for wetland erosion along West Cove. Due to the significant rate of erosion in this area, some of the boundary has been generalized (i.e., simplified so that the map is clear, and the boundary is not overly detailed).

S10: MERMENTAU RIVER. The southern boundary of the excluded area at the western end of the unit has been modified to account for shoreline erosion along the Gulf of Mexico.

Maine

The Service's review found that the 34 CBRS units in Maine do not need to be modified due to changes from natural forces. The imagery that was used on the currently effective maps is dated 2011 and/or 2012, with the exception of one map that also utilizes imagery dated 2003-2005. The imagery that was used for this review, and will be used for the revised maps, is dated 2021.

New York (Great Lakes)

The Service's review found that 1 of the 21 CBRS units in the Great Lakes region of New York (the only CBRS units in New York that were part of this review) requires changes due to natural forces. The imagery that was used on the currently effective maps is dated 2013. The imagery that was used for this review, and will be used for the revised maps, is dated 2022.

The remaining CBRS units in the Long Island region of New York were not assessed as part of this review because they are part of a separate comprehensive mapping project related to Hurricane Sandy (the related maps are awaiting adoption by Congress through legislation).

NY-62: GRENADIER ISLAND. The eastern lateral boundary of the unit has been modified to account for the accretion of a sand spit that has migrated outside the unit.

Request for Comments

CBRA requires consultation with the appropriate Federal, State, and local officials on the proposed CBRS boundary modifications to reflect changes that have occurred in the size or location of any unit as a result of natural forces (16 U.S.C. 3503(c)). We therefore invite interested Federal, State, and local officials to review and comment on the draft revised boundaries for Florida, Georgia, Louisiana, Maine, and the Great Lakes region of New York. The Service is specifically notifying the following stakeholders concerning the availability of the draft revised boundaries: (1) the Chair and Ranking Member of the House of Representatives Committee on Natural Resources, the Chair and Ranking Member of the Senate Committee on Environment and Public Works, and the members of the Senate and House of Representatives for the affected areas; (2) the governors of the affected areas; (3) State and local officials with floodplain management and/or land use responsibilities for the affected areas; and (4) Federal officials with knowledge of the coastal geomorphology within the affected areas.

Federal, State, and local officials may submit written comments and accompanying data as described in ADDRESSES, above. Comments regarding specific CBRS unit(s) should reference the appropriate unit number(s) and unit name(s). Please note that boundary modifications through the 5-year review process can only be made to reflect changes that have occurred in the size or location of any CBRS unit as a result of natural forces. Other requests for changes to the CBRS outside of the Service's administrative authorities (16 U.S.C. 3503(c)-(d)) will not be considered at this time. We must receive comments on or before the date listed above in DATES.

The draft revised boundaries may be viewed in a web mapping application accessed from the Service's website at https://www.fws.gov/project/cbrs-5-year-review. A shapefile of the draft revised CBRS boundaries, which can be used with GIS software, is also available for download. The shapefile is best viewed using the base imagery to which the boundaries were drawn; the base imagery sources and dates are included in the metadata for the shapefile. The Service is not responsible for any misuse or misinterpretation of the shapefile.

Interested parties who are unable to access the draft revised boundaries or other information online may contact the individual identified in FOR FURTHER INFORMATION CONTACT, above, and reasonable accommodations will be made.

Next Steps

Following the close of the comment period, the Service will review all comments received on the draft revised boundaries; adjust the boundaries, as appropriate; prepare final revised maps; and publish a notice in the Federal Register to announce the availability of the final revised maps. The revised maps will take effect upon the date of publication of that notice in the Federal Register.

Authority

Coastal Barrier Resources Act (CBRA; 16 U.S.C. 3501 et seq.).

Gary Frazer,
Assistant Director for Ecological Services.

[FR Doc. 2023-23864 Filed 11-2-23; 8:45 am]

BILLING CODE 4333-15-P